DEPARTMENT OF TRANSPORTATION

Federal Aviation Administration

14 CFR Part 71

[Docket No. FAA-2001-9129; Airspace Docket No. 01-AWA-3]

RIN 2120-AA66

Realignment of Federal Airway V-358; TX

AGENCY: Federal Aviation Administration (FAA), DOT.

ACTION: Final rule.

SUMMARY: This action realigns Federal Airway 358 (V-358) Waco, TX, so as to prevent instrument flight rules (IFR) aircraft navigating on the airway from encroaching on the newly established Prohibited Area 49 (P-49), Crawford, TX. P-49 was established to enhance security and assist the United States Secret Service in accomplishing its mission of providing security for the President of the United States.

EFFECTIVE DATE: 0901 UTC, November 1, 2001.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION:

Background

On March 7, the Department of the Treasury, United States Secret Service requested that the FAA realign V-358 to prevent IFR aircraft navigating on the airway from encroaching on newly established P-49. As currently aligned, V-358 passes through the center of P-49 prohibited airspace (Airspace Docket No. 01-AWA-1, 66 FR 16391).

The Rule

This amendment to 14 CFR part 71 realigns V-358 to prevent IFR aircraft navigating on the airway from entering into newly established P-49. This action is necessary to assist the United States Secret Service in accomplishing its mission of providing security for the President of the United States. Because this action is needed for the security of the President, I find that notice and public procedure under 5 U.S.C. 553(b) are impracticable. Federal airways are published in paragraph 6010(a) of FAA Order 7400.9J dated August 31, 2001, and effective September 16, 2001, which is incorporated by reference in 14 CFR 71.1. The Federal airway listed in this document will be published subsequently in the Order.

This regulation is limited to an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since it has been determined that this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR Part 71 as follows:

PART 71—DESIGNATION OF CLASS A, CLASS B, CLASS C, CLASS D, AND CLASS E, AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9J, Airspace Designations and Reporting Points, dated August 31, 2001, and effective September 16, 2001, is amended as follows:

Paragraph 6010(a) Domestic VOR Federal Airways

* * * * *

V-358 [Revised]

From San Antonio, TX, via Stonewall, TX; Lampasas, TX; INT Lampasas 041° and Waco, TX, 280° radials; Waco; Glen Rose, TX; Millsap, TX; Bowie, TX; Ardmore, OK; INT Ardmore 327° and Will Rogers, OK, 195° radials; to Will Rogers.

* * * * *

Issued in Washington, DC, on September 24, 2001.
Reginald C. Matthews,
Manager, Airspace and Rules Division.

[FR Doc. 01-24427 Filed 10-1-01; 8:45 am]

BILLING CODE 4910-13-U